ENVIRONMENTAL PROTECTION AGENCY

[FRL-8277-5]

Stakeholder Comment on Proposed National Enforcement and Compliance Assurance; Priorities for Fiscal Years 2008, 2009 and 2010

AGENCY: Environmental Protection Agency (EPA).

ACTION: Solicitation of recommendations and comments.

SUMMARY: This Notice is a Federal Agency request for the public to comment and provide recommendations on triennial national enforcement and compliance assurance priorities to be addressed for fiscal years 2008, 2009 and 2010. EPA intends to consider information submitted by commentors during the priority identification process. Final priority selections are generally incorporated into the EPA's Office of Enforcement and Compliance Assurance Workplanning Guidance (which provides national program direction for all EPA Regional offices). These priorities also affect implementation of the enforcement and compliance goals and objectives outlined in the EPA Strategic Plan, as mandated under the Government Performance and Results Act.

DATES: The Agency must receive comments and recommendations in writing on or before March 12, 2007.

ADDRESSES: Submit your comments, referencing docket ID number EPA-HQ-OECA-2007-0066, electronically using http://www.regulations.gov (our preferred method) or by e-mail to docket.oeca@epa.gov, or by mail to: EPA Docket Center (EPA/DC), Environmental Protection Agency, Enforcement and Compliance Docket and Information Center, mail code (2201T), 1200 Penn. Ave., NW., Washington, DC 20460.

FOR FURTHER INFORMATION CONTACT: Nicholas Franco, Director, National Planning Measures and Analysis Staff; telephone: (202) 564-0113 or facsimile: (202) 564-0027.

SUPPLEMENTARY INFORMATION:

Contents

A. Background

B. Projected Time Frames

A. Background

EPA's Office of Enforcement and Compliance Assurance (OECA) selects multi-year national priorities focusing on specific environmental problems, risks, or patterns of noncompliance. A performance-based strategy is developed for each national priority to characterize the problem and set goals for addressing it. The intent of this Notice is to invite comments from the public on EPA's enforcement and compliance assurance priorities for the years 2008-2010 and provide a summary of the process EPA used to identify this proposed list of National Priorities.

This past summer, EPA Regions were asked to review the national priority selection criteria to help inform their recommendations on which priorities, in part or in whole, EPA should continue through FY 2010. In addition, the EPA Regions discussed the priorities with the states and tribes, to get their opinion on whether the existing priorities should be continued, in part or in whole, for the next three fiscal years.

States and tribes were also encouraged to put forward any new suggestions for priorities that they would like to see considered at a national level. Feedback to date from EPA Regions, states and tribes has been generally supportive of continuing with the existing set of national priorities. OECA uses the following criteria to select national priorities:

(a) Significant Environmental Benefit. Can significant environmental benefits be gained, or risks to human health or the environment be reduced through focused EPA action directed at specific regulated entities, geographic areas, industrial or governmental sectors, or environmental program areas?

(b) Pattern of Noncompliance. Are there identifiable and important patterns of noncompliance among specific regulated entities, industrial or governmental sectors, in geographic areas, or within environmental statutes or programs?

(c) Appropriate EPA Responsibility. Are the environmental risks, human health risks or the patterns of noncompliance sufficient in scope and scale such that EPA is best suited to take action or pursue a collaborative approach in which EPA leverages other resources?

The proposed set of FY 2008-2010 national priorities are shown below.

• Clean Water Act—Stormwater.

• Clean Water Act—Combined Sewer Overflow.

• Clean Water Act—Sanitary Sewer Overflow.

• Clean Water Act—Concentrated Animal Feeding Operations.

• Clean Air Act—New Source Review/Prevention of Significant Deterioration.

• Clean Air Act—Air Toxics.

• RCRA & CERCLA—Financial Assurance.

• RCRA—Mining & Mineral Processing.

• Tribal.

The FY 2005-2007 Petroleum Refining priority will not continue into FY 2008-2010 as a national priority. The priority has met its primary goal of addressing 80% of the national refining capacity. It is important to note that discontinuation as a national priority does not mean that the Agency will no longer focus on these areas, but rather the work will continue as part of the Agency's core program activities.

The table below includes a brief description of the environmental problem in each priority area. Greater detail and background information on each priority area can be found at http://www.epa.gov/compliance/data/planning/priorities/index.html. Information on end of year results for the Office of Enforcement and Compliance Assurance, including national priorities, can be found at http://epa.gov/compliance/data/results/annual/fy2006.html.

National Priorities
Priority | Nature of concern
Clean Water Act—Stormwater | Stormwater runoff from urban areas can include a variety of pollutants, such as sediment, bacteria, organic nutrients, hydrocarbons, metals, oil and grease.
Clean Water Act—Combined Sewer Overflow | Combined sewer systems are designed to collect rainwater runoff, domestic sewage and industrial wastewater in the same pipe. During periods of rainfall or snow melt, the wastewater volume in a combined sewer system can exceed the capacity of the system or treatment plant, leading to an overflow.
Clean Water Act—Sanitary Sewer Overflow | The main pollutants in raw sewage from SSOs are bacteria, pathogens, nutrients, untreated industrial wastes, toxic pollutants, such as oil and pesticides, and wastewater solids and debris.
Clean Water Act—Concentrated Animal Feeding Operations | The major environmental problem associated with CAFOs is the large volume of animal waste generated in concentrated areas. Pollutants associated with animal waste primarily include nutrients, mainly nitrogen and phosphorus, but animal waste may also include organic matter, solids, pathogens, pesticides, antibiotics, hormones, salts and various trace elements (including metals). If manure and wastewater are not properly managed, pollutants can be released into the environment through discharges from manure storage areas or land application.
Clean Air Act—New Source Review/Prevention of Significant Deterioration | Ensuring that New Source Review (NSR) and Prevention of Significant Deterioration (PSD) requirements of the Clean Air Act (CAA) are implemented. Failure to comply with NSR/PSD requirements results in inadequate control of emissions, thereby contributing thousands of unaccounted tons of pollution each year, particularly of Nitrogen Oxides, Volatile Organic Compounds, and Particulate Matter.
Clean Air Act—Air Toxics | Reduce the public exposure to toxic air emissions by ensuring compliance with the Maximum Achievable Control Technology (MACT) standards.
RCRA & CERCLA—Financial Assurance | Strengthen compliance with RCRA & CERCLA financial assurance requirements to ensure that persons handling hazardous waste have adequate funds to close facilities, cleanup any releases, and compensate any affected parties.
RCRA—Mining and Mineral Processing | Reducing risk to health and the environment by achieving increased compliance rates throughout the mineral processing and mining sectors and by ensuring that harm is being appropriately addressed through compliance assistance and enforcement.
Tribal | Tribal members face significant threats to human health and the environment posed by pollution of the air, water, and land in Indian country and other tribal areas, including in Alaska, where federally-recognized tribes and tribal members have recognized rights and interests protected by treaty, statute, judicial decisions, and other authorities. A diverse spectrum of regulated facilities exists in Indian country, including drinking water and wastewater treatment systems, manufacturing facilities, facilities discharging pollutants into the air or water, facilities storing, treating or disposing of solid or hazardous waste, abandoned waste sites, and other pollution sources.
National Priority returned to Core Program—Petroleum Refining | Using compliance and enforcement tools to reduce air emissions and eliminate unpermitted releases from operable domestic petroleum refineries. This priority has met its goal of addressing 80% of refinery capacity, and therefore, is returning to the core program.

At this time we are inviting comments on this list of national priorities and welcome recommendations on other areas that you think should be considered as national priority candidates. EPA intends to consider public comments as we develop a limited number of recommended FY 2008-2010 priorities. When submitting responses to this Notice, commentors should rank which of the areas listed above should be a top concern for national focus, as well as suggest others not included on the current list. If additional problem areas are identified, the commentor should provide supporting information relating to the previously listed criteria. Suggested priority areas that are not chosen may be candidates for individual Regional or State attention and/or continued investigation. Direct your comments to Docket ID No. EPA-HQ-OECA-2007-0066. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

B. Projected Time Frames

After receiving comments in response to this Notice, we expect to complete an analysis of proposed priorities and provide a list of final recommendations to OECA's Assistant Administrator for approval. EPA will share the final recommendations with the Regions, states and tribes in a subsequent Federal Register Notice this spring. OECA expects to issue its final FY2008 Work Planning Guidance, which will include the final list of 2008-2010 national priorities, in April 2007.

Dated: February 6, 2007.
Michael M. Stahl,
Director, Office of Compliance, Office of Enforcement and Compliance Assurance.

[FR Doc. E7-2179 Filed 2-8-07; 8:45 am]

BILLING CODE 6560-50-P